DEPARTMENT OF LABOR

Employment and Training Administration

[TA-W-60,851]

Mastercraft Fabrics, LLC, Joan Fabrics Corporation, Eagle Mountain Finishing, Including Workers Who's Wages Were Paid by Accuforce Staffing Service Cramerton, NC; Amended Certification Regarding Eligibility To Apply for Worker Adjustment Assistance and Alternative Trade Adjustment Assistance

In accordance with section 223 of the Trade Act of 1974 (19 U.S.C. 2273), and section 246 of the Trade Act of 1074 (26 U.S.C. 2813), as amended, the Department of Labor issued a Certification of Eligibility to Apply for Worker Adjustment Assistance and Alternative Trade Adjustment Assistance on March 9, 2007, applicable to workers of Mastercraft Fabrics, LLC, Joan Fabrics Corporation, Eagle Mountain Finishing, Cramerton, North Carolina. The notice was published in the Federal Register on March 22, 2007 (72 FR 13528).

At the request of a company official, the Department reviewed the certification for workers of the subject firm. The workers were engaged in the production of finished fabrics.

New information shows that following a change in ownership, some workers of the Eagle Mountain Finishing facility of the subject firm will become employees of AccuForce Staffing Service.

Workers separated from employment at Eagle Mountain Finishing, Cramerton, North Carolina location of the subject firm had their wages reported under a separate unemployment insurance (UI) tax account for AccuForce Staffing Service.

Accordingly, the Department is amending the certification to properly reflect this matter.

The intent of the Department's certification is to include all workers of Mastercraft Fabrics, LLC, Joan Fabrics Corporation, Eagle Mountain Finishing, including workers whose wages were paid by AccuForce Staffing Service who were adversely affected by customer imports.

The amended notice applicable to TA-W-60,851 is hereby issued as follows:

“All workers of Mastercraft Fabrics LLC, Joan Fabrics Corporation, Eagle Mountain Finishing, including workers who's wages were paid by AccuForce Staffing Service, Cramerton, North Carolina, who became totally or partially separated from employment on or after January 29, 2007, through March 9, 2009, are eligible to apply for adjustment assistance under section 223 of the Trade Act of 1974, and are also eligible to apply for alternative trade adjustment assistance under section 246 of the Trade Act of 1974.”

Signed at Washington, DC this 26th day of July, 2007.
Elliott S. Kushner,
Certifying Officer, Division of Trade Adjustment Assistance.

[FR Doc. E7-15003 Filed 8-1-07; 8:45 am]

BILLING CODE 4510-FN-P